DEPARTMENT OF COMMERCE

Foreign-Trade Zones Board

[Order No. 1256]

Grant of Authority for Subzone Status GE Engine Services Distribution LLC (Gas Turbine Engines), Erlanger, KY

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR part 400) provide for the establishment of special-purpose subzones when existing zone facilities cannot serve the specific use involved, and when the activity results in a significant public benefit and is in the public interest;

Whereas, the Greater Cincinnati Foreign Trade Zone, Inc./Northern Kentucky Foreign Trade Zone, Inc., grantee of Foreign-Trade Zone 47, has made application to the Board for authority to establish special-purpose subzone status at the manufacturing and distribution facilities (gas turbine engines) of GE Engine Services Distribution LLC, located in Erlanger, Kentucky (FTZ Docket 25-2002, filed May 28, 2002);

Whereas, notice inviting public comment has been given in the Federal Register (67 FR 38638-38639, June 5, 2002); and,

Whereas, the Board adopts the findings and recommendations of the examiner's report, and finds that the requirements of the FTZ Act and the Board's regulations are satisfied, and that approval of the application would be in the public interest;

Now, therefore, the Board hereby grants authority for subzone status at the gas-turbine engine manufacturing facilities of GE Engine Services Distribution LLC located in Erlanger, Kentucky (Subzone 47C), at the location described in the application, subject to the FTZ Act and the Board's regulations, including § 400.28.

Signed in Washington, DC, this 8th day of November, 2002.
Faryar Shirzad,
Assistant Secretary of Commerce for Import Administration, Alternate Chairman, Foreign-Trade Zones Board.
Dennis Puccinelli,
Executive Secretary.

[FR Doc. 02-29502 Filed 11-19-02; 8:45 am]

BILLING CODE 3510-DS-U